ENVIRONMENTAL PROTECTION AGENCY

[EPA-HQ-OECA-2014-0037; FRL-9984-59-OEI]

Information Collection Request Submitted to OMB for Review and Approval; Comment Request; NSPS for Primary and Secondary Emissions From Basic Oxygen Furnaces (Renewal)

AGENCY: Environmental Protection Agency (EPA).

ACTION: Notice.

SUMMARY: The Environmental Protection Agency (EPA) has submitted an information collection request (ICR), NSPS for Primary and Secondary Emissions from Basic Oxygen Furnaces (EPA ICR Number 1069.12, OMB Control Number 2060-0029), to the Office of Management and Budget (OMB) for review and approval in accordance with the Paperwork Reduction Act. This is a proposed extension of the ICR, which is currently approved through November 30, 2018. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 30, 2018.

ADDRESSES: Submit your comments, referencing Docket ID Number HQ-OECA-2014-0037, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Primary Emissions from Basic Oxygen Process Furnaces (Subpart N) apply to each basic oxygen process furnace (BOPF) in an iron and steel plant that commenced construction, modification, or reconstruction after the date of proposal. These standards were merged with Standards of Performance for Secondary Emissions from Basic Oxygen Process Steelmaking Facilities (Subpart Na). Subpart Na is applicable to any top-blown BOPF, and hot metal transfer station or skimming stations used with bottom-blown or top-blown BOPF's for which construction, reconstruction, or modification commenced after January 20, 1983. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subparts N and Na.

Form Numbers: None.

Respondents/affected entities: Owners and operators of basic oxygen process furnaces at iron and steel plants.

Respondent's obligation to respond: Mandatory (40 CFR part 60, subpart N and Na).

Estimated number of respondents: 18 (total).

Frequency of response: Initially, occasionally, and semiannually.

Total estimated burden: 6,280 hours (per year). Burden is defined at 5 CFR 1320.3(b).

Total estimated cost: $690,000 (per year), which includes $29,700 in annualized capital and/or operation & maintenance costs.

Changes in the Estimates: The increase in burden from the most recently approved ICR is due to an adjustment. Hours were added to approximate the time spent by each source each year to familiarize with the rule requirements, and the total hours were rounded to three significant digits, which resulted in a small increase in labor hours since the last renewal.

Courtney Kerwin,
Director, Regulatory Support Division.

[FR Doc. 2018-23744 Filed 10-30-18; 8:45 am]

BILLING CODE 6560-50-P